DEPARTMENT OF COMMERCE

National Oceanic and Atmospheric Administration

RIN 0648-XG02

New England Fishery Management Council; Atlantic Sea Scallop; Scoping Process

AGENCY: National Marine Fisheries Service (NMFS), National Oceanic and Atmospheric Administration (NOAA), Commerce

ACTION: Notice of intent to prepare an environmental impact statement (EIS) and notice of re-initiation of scoping process; request for comments.

SUMMARY: The New England Fishery Management Council (Council) announces its intent to prepare an amendment to the Fishery Management Plan (FMP) for Atlantic Sea scallops (Placopecten magellanicus ((Gmelin)) and to prepare an EIS to analyze the impacts of any proposed management measures. The Council is also formally re-initiating a public process to determine the scope of alternatives to be addressed in the amendment and EIS. The purpose of this notification is to alert the interested public of the re-commencement of the scoping process and to provide for public participation in compliance with environmental documentation requirements.

DATES: The Council will discuss and take scoping comments at public meetings in April 2008. For specific dates and times of the scoping meetings, see SUPPLEMENTARY INFORMATION. Written scoping comments must be received on or before 5 p.m. EST, April 4, 2008.

ADDRESSES: The Council will take scoping comments at public meetings in Virginia, New Jersey, Maine and Massachusetts. For specific locations, see SUPPLEMENTARY INFORMATION. Written comments on Amendment 15 may be sent by any of the following methods:

• E-mail to the following address scallop.fifteen@noaa.gov;

• Mail to Patricia A. Kurkul, Regional Administrator, NMFS, Northeast Regional Office, One Blackburn Drive, Gloucester, MA 01930. Mark the outside of the envelope “Comments on Scallop Amendment 15”; or

• Fax to Patricia A. Kurkul, 978-281-9135.

Requests for copies of the scoping document and other information should be directed to Paul J. Howard, Executive Director, New England Fishery Management Council, 50 Water Street, Mill 2, Newburyport, MA 01950, telephone (978) 465-0492. The scoping document is accessible electronically via the Internet at http://www.nefmc.org.

FOR FURTHER INFORMATION CONTACT: Paul J. Howard, Executive Director, New England Fishery Management Council (978) 465-0492.

SUPPLEMENTARY INFORMATION:

Background

The U.S. Atlantic Sea scallop fishery is managed as one stock complex along the east coast from Maine to Cape Hatteras, North Carolina. The Federal Atlantic Sea Scallop Fishery Management Plan (FMP) became effective on May 15, 1982. The FMP has been amended a number of times since then. In 1994 Amendment 4 began a limited access program for the directed scallop fleet with day-at-sea (DAS) limits and other measures to manage the scallop resource more effectively. Limited access vessels were assigned to different DAS permit categories (full-time, part-time or occasional) according to their 1985-1990 fishing activity. A “general category” permit was created for vessels that did not qualify for limited access. These vessels could apply for a general category permit and land up to 400 pounds of scallops a day.

In 2004 Amendment 10 introduced rotational area management and changed the way that the FMP allocates fishing effort for the limited access fishery. Rather than an annual pool of DAS, vessels are now allocated a certain number of trips in controlled access areas as well as a specific number of open area DAS. Numerous other actions have been implemented over the years, including modifications to gear and other input controls to further reduce effort and impacts on essential fish habitat (EFH) and bycatch. More recently, the Council approved an action to control capacity in the general category fishery (Amendment 11), which was approved by the Council in June 2007 and is currently under review by NMFS. If approved, Amendment 11 would allocate a specific portion of the projected scallop catch to the general category fishery and includes a limited access program for this permit type with an individual fishing quota (IFQ) program, as well as other measures.

Additional measures for the Atlantic Sea Scallop FMP are being considered for several primary reasons: 1) the Magnuson-Stevens Reauthorization Act of 2007 (MSRA) includes new requirements for annual catch limits (ACLs) and accountability measures (AMs) to be in place for all FMPs that are not subject to overfishing by 2011; 2) there is excess capacity in the limited access scallop fishery and rationalization of this fishery would reduce costs, increase profits, and increase overall economic efficiency in the fishery; and 3) the current overfishing definition does not protect the stock from growth overfishing and consideration of a more area-based approach is justified since this resource is primarily managed by area rotation. Other issues under consideration are adjustments to various alternatives developed under Amendment 11, measures to address EFH areas closed to the scallop fishery if Phase II of the EFH Omnibus Amendment is delayed, alternatives to improve the scallop research set-aside program, and moving the fishing year from March 1 to May 1.

Measures Under Consideration

The Council may consider a host of management measures to address the three primary issues including, but not limited to, the following: identification of ACLs and AMs for various components of the scallop fishery; measures to reduce capacity in the limited access fishery including DAS leasing, permits or DAS transfers, and individual fishing quotas (IFQs); and consideration of an overfishing definition that would average fishing mortality for a particular area over a period of time rather than an overall average for the entire resource per fishing year. As for modifications to Amendment 11 measures if approved by NMFS, this action may consider a rollover allowance for general category IFQ permit owners; allocation of IFQ by area for general category IFQ permit owners; alternative methods for calculating the hard TAC in the Northern Gulf of Maine (NGOM) in future years; and consideration of individual sector applications for general category vessels interested in forming a voluntary sector.

This action is also considering alternatives to address the inconsistent EFH areas currently closed to the scallop fishery under both the Scallop and Multispecies FMPs. Specifically, this action may consider making the EFH closed areas consistent under both FMPs if Phase II of the EFH Omnibus Amendment timeline is delayed. Rather than both EFH areas being closed to the scallop fishery, just the EFH areas implemented under the Multispecies FMP would apply to the scallop fishery. Additionally, this action is considering alternatives to improve the overall effectiveness of the research set-aside program. Specifically, alternatives to streamline the process may be considered as well as specific alternatives to maximize use of the resource for direct benefits to scallop management. Lastly, the amendment may consider a range of dates for the start of the fishing year, in addition to the status quo of March 1, to address that the scallop fishing year is out of sync with the framework adjustment process and the timing of when the scallop survey data become available for analysis. As a result, actions have not been implemented at the start of the fishing year, TACs have been misestimated due to reliance on older data, and extra actions have been required to compensate. Therefore, May 1 has been suggested as a possible start date to address some of these issues.

It is possible that during the scoping process other issues will be raised related to the stated purposes of this amendment, and if appropriate, those issues will be considered by the Council as well. On the other hand, some issues may be dropped after completion of the scoping process if the Council determines that the scope of this action is too broad and, due to limited resources, needs to reduce the number of issues considered in this action.

Scoping Process

All persons affected by or otherwise interested in scallop management are invited to participate in determining the scope and significance of issues to be analyzed by submitting written comments (see ADDRESSES) or by attending one of the scoping meetings. Scope consists of the range of actions, alternatives, and impacts to be considered. Alternatives include the following: not amending the management plan (taking no action), developing an amendment that contains management measures such as those discussed in this notice, or other reasonable courses of action. Impacts may be direct, individual or cumulative.

This scoping process will also identify and eliminate issues that are not significant from detailed analysis. When, after the scoping process is completed, the Council proceeds with the development of an amendment to the Scallop FMP, the Council will prepare an EIS to analyze the impacts of a range of alternatives under consideration. The Council will hold public hearings to receive comments on the draft amendment and on the analysis of its impacts presented in the EIS.

Scoping Hearing Schedule

The Council will discuss and take scoping comments at the following public meetings:

1.Tuesday, April 1, 7 p.m., Omni Newport News Hotel, 1000 Omni Boulevard, Newport News, VA. 23606; telephone (757) 873-6664.

2.Wednesday, April 2, 7 p.m., Congress Hall, 251 Beach Avenue, Cape May, NJ 08204; telephone (609) 884-8421.

3.Monday, April 7, 7 p.m., Holiday Inn by the Bay, 88 Spring Street, Portland, ME 04101; telephone (207) 775-2311.

4.Tuesday, April 8, 7 p.m., Holiday Inn Express, 110 Middle Street, Fairhaven, MA 02719; telephone: (508) 997-1281.

Special Accommodations

These meetings are accessible to people with physical disabilities. Requests for sign language interpretation or other auxiliary aids should be directed to Paul J. Howard (see ADDRESSES) at least 5 days prior to the meeting date.

Authority: 16 U.S.C. 1801 et seq.

Dated: February 28, 2008
James P. Burgess,
Acting Director, Office of Sustainable Fisheries, National Marine Fisheries Service.

[FR Doc. E8-4283 Filed 3-4-08; 8:45 am]

BILLING CODE 3510-22-S